DEPARTMENT OF THE TREASURY

Agency Information Collection Activities; Submission for OMB Review; Comment Request; Collection of Data From Property and Casualty Insurers for Reports Concerning the Terrorism Risk Insurance Program

AGENCY: Departmental Offices, U.S. Department of the Treasury.

ACTION: Notice of Information Collection; request for comment.

SUMMARY: The Department of the Treasury will submit the following information collection request to the Office of Management and Budget (OMB) for review and clearance in accordance with the Paperwork Reduction Act of 1995, on or after the date of publication of this notice. The public is invited to submit comments on this request.

DATES: Comments should be received on or before April 4, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Title: Collection of Data from Property and Casualty Insurers for Reports Concerning the Terrorism Risk Insurance Program.

OMB Control Number: 1505-0257.

Type of Request: Revision of a currently approved collection.

Description: The Terrorism Risk Insurance Act of 2002 (TRIA) created the Terrorism Risk Insurance Program (Program) to address disruptions in the market for terrorism risk insurance, to help ensure the continued availability and affordability of commercial property and casualty insurance for terrorism risk, and to allow for the private markets to stabilize and build insurance capacity to absorb any future losses for terrorism events. The Program has been reauthorized on a number of occasions, most recently in the Terrorism Risk Insurance Program Reauthorization Act of 2019. TRIA requires the Secretary of the Treasury (Secretary) to perform periodic analyses of certain matters concerning the Program. In order to assist the Secretary with this process, TRIA requires insurers to submit on an annual basis certain insurance data and information regarding participation in the Program.

Form: TRIP Forms for Small Insurers, Non-Small Insurers, Captive Insurers and Alien Surplus Lines Companies.

Affected Public: Insurance companies.

Estimated Number of Respondents: 1,015.

Frequency of Response: Annually.

Estimated Total Number of Annual Responses: 1,015.

Estimated Time per Response: Varies by type of insurer. Small insurers—32 hours. Large Insurers—88 hours. Captive insurers—50 hours. Alien surplus line insurers—55 hours.

Estimated Total Annual Burden Hours: 51,070.

(Authority: 44 U.S.C. 3501 et seq.)

Spencer W. Clark,
Treasury PRA Clearance Officer.

[FR Doc. 2025-03555 Filed 3-4-25; 8:45 am]

BILLING CODE 4810-AK-P